DEPARTMENT OF ENERGY

Federal Energy Regulatory Commission

Combined Notice of Filings #1

Take notice that the Commission received the following electric rate filings:

Docket Numbers: ER22-350-001.

Applicants: PacifiCorp.

Description: Tariff Amendment: Idaho Falls Power JOOA Deficiency Filing to be effective 4/4/2022.

Filed Date: 2/3/22.

Accession Number: 20220203-5001.

Comment Date: 5 p.m. ET 2/24/22.

Docket Numbers: ER22-988-000.

Applicants: Alabama Power Company, Georgia Power Company, Mississippi Power Company.

Description: § 205(d) Rate Filing: Alabama Power Company submits tariff filing per 35.13(a)(2)(iii: Dallas County Solar LGIA Filing to be effective 1/20/2022.

Filed Date: 2/3/22.

Accession Number: 20220203-5085.

Comment Date: 5 p.m. ET 2/24/22.

Docket Numbers: ER22-989-000.

Applicants: Alabama Power Company, Georgia Power Company, Mississippi Power Company.

Description: § 205(d) Rate Filing: Alabama Power Company submits tariff filing per 35.13(a)(2)(iii: Talladega Solar LGIA Filing to be effective 1/20/2022.

Filed Date: 2/3/22.

Accession Number: 20220203-5086.

Comment Date: 5 p.m. ET 2/24/22.

Docket Numbers: ER22-990-000.

Applicants: PJM Interconnection, L.L.C.

Description: § 205(d) Rate Filing: Amendment to WMPA, Service Agreement No. 5819; Queue No. AF2-043 to be effective 9/29/2020.

Filed Date: 2/3/22.

Accession Number: 20220203-5095.

Comment Date: 5 p.m. ET 2/24/22.

Docket Numbers: ER22-991-000.

Applicants: PPL Electric Utilities Corporation, PJM Interconnection, L.L.C.

Description: § 205(d) Rate Filing: PPL Electric Utilities Corporation submits tariff filing per 35.13(a)(2)(iii: PPL submits revisions to OATT to add a new Attachment M-2 to be effective 4/4/2022.

Filed Date: 2/3/22.

Accession Number: 20220203-5096.

Comment Date: 5 p.m. ET 2/24/22.

Take notice that the Commission received the following PURPA 210(m)(3) filings:

Docket Numbers: QM22-7-000.

Applicants: ALLETE, Inc.

Description: Application of ALLETE, Inc. to Terminate Its Mandatory Purchase Obligation under the Public Utility Regulatory Policies Act of 1978.

Filed Date: 2/3/22.

Accession Number: 20220203-5091.

Comment Date: 5 p.m. ET 3/3/22.

Take notice that the Commission received the following electric reliability filings:

Docket Numbers: RD22-2-000.

Applicants: North American Electric Reliability Corporation.

Description: Petition of the North American Electric Reliability Corporation for approval of Proposed Reliability Standards Related to Establishing and Communicating System Operating Limits.

Filed Date: 6/28/21.

Accession Number: 20210628-5188.

Comment Date: 5 p.m. ET 2/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: February 3, 2022.
Debbie-Anne A. Reese,
Deputy Secretary.

[FR Doc. 2022-02697 Filed 2-8-22; 8:45 am]

BILLING CODE 6717-01-P